CORPORATION FOR NATIONAL AND COMMUNITY SERVICE

Agency Information Collection Activities; Submission to the Office of Management and Budget for Review and Approval; Comment Request; Employers of National Service Form and Survey

AGENCY: Corporation for National and Community Service.

ACTION: Notice of information collection; request for comment.

SUMMARY: The Corporation for National and Community Service, operating as AmeriCorps, has submitted a public information collection request (ICR) entitled Employees of National Service Form and Survey for review and approval in accordance with the Paperwork Reduction Act.

DATES: Written comments must be submitted to the individual and office listed in the ADDRESSES section by October 25, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Emily Smith, at (202) 391-1393 or by email to emsmith@americorps.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 12, 2024, at 89 FR 49863, with a comment period ending August 12, 2024. No public comments were received in response to the notice.

Title of Collection: Employers of National Service Enrollment Form and Survey.

OMB Control Number: 3045-0175.

Type of Review: Renewal.

Respondents/Affected Public: Businesses and organizations.

Total Estimated Number of Annual Responses: 1,180.

Total Estimated Number of Annual Burden Hours: 492.

Abstract: AmeriCorps is seeking to renew its Employers of National Service Enrollment Form and Survey. Organizations from all sectors either seeking to become, or already established as, Employers of National Service will be filling out these forms. This includes businesses, nonprofits, institutions of higher education, school districts, state and local governments, and Federal agencies. The purpose of the enrollment form is to document what the organization is committing to doing as an Employer of National Service and provide its contact information to AmeriCorps. The information gathered on the enrollment form will also allow AmeriCorps to display the organization's information accurately online, as a resource for job seekers. It will also enable AmeriCorps to speak to the diversity within the program's membership, both for internal planning and external audience use. The purpose of the survey form is to track the actions an employer has taken in the past year, gather stories of success or impact, collect quantitative hiring data relating to AmeriCorps and Peace Corps alumni, and provide organizations with an opportunity to update their contact and location data. AmeriCorps also seeks to continue using the currently approved information collection until the new information collection is approved by OMB. The currently approved information collection is due to expire on September 30, 2024.

Rhonda Taylor,
Director, Partnerships and Program Engagement.

[FR Doc. 2024-21919 Filed 9-24-24; 8:45 am]

BILLING CODE 6050-28-P